DEPARTMENT OF DEFENSE

Department of the Army

U.S. Army Science Board; Notice of Federal Advisory Committee Meeting

AGENCY: Department of the Army, DoD.

ACTION: Notice of Federal Advisory Committee meeting.

SUMMARY: The Department of the Army is publishing this notice to announce the following Federal Advisory Committee meeting of the U.S. Army Science Board (ASB). This meeting is open to the public.

DATES: Tuesday, January 5, 2021. Time: 9:30 a.m.-2:30 p.m. This meeting will be open but with required COVID-19 precautions.

ADDRESSES: The meeting will be held at Bell Textron, 2231 Crystal Drive, Suite 1010. Arlington, VA 22202.

FOR FURTHER INFORMATION CONTACT: Ms. Heather J. Gerard, (703) 545-8652, heather.j.gerardi.civ@mail.mil or Ms. Gloria Mudge at gloria.l.mudge.civ@mail.mil. Mailing address is Army Science Board, 2530 Crystal Drive, Suite 7098, Arlington, VA 22202. Website: https://asb.army.mil/.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is for ASB members to review, deliberate, and vote on the findings and recommendations presented for a Fiscal Year 2020 (FY20) ASB studies.

Agenda: The board will present findings and recommendations for deliberation and vote on the following FY20 study: “An Independent Assessment of the 2040 Battlefield and its Implications for 5th Generation Combat Vehicle Technologies”. This study will be discussed from 10:00 a.m. to 11:30 a.m.

Public Accessibility to the Meeting: Pursuant to 5 U.S.C. 552b, as amended, and 41 CFR 102-3.140 through 102-3.165, and subject to the availability of space, this meeting is open to the public. Seating for this event is limited due to COVID-19 restrictions and reservations must be made in advance to attend this event. Send an email request to Ms. Gloria Mudge at gloria.l.mudge.civ@mail.mil. Advanced security and COVID-19 screening is required to attend this meeting. A photo ID is required to enter the facility. COVID-19 screening and questionnaire will be taken at the door, facemasks are required and social distancing is mandatory. Seating is therefore limited and on a first come, first served basis.

For additional information about public access procedures, contact the Alternate Designated Federal Officer, at the email address or telephone number listed in the FOR FURTHER INFORMATION CONTACT section.

Written Statements: Pursuant to 41 CFR 102-3.105(j) and 102-3.140, and 10(a)(3) of the Federal Advisory Committee Act of 1972, the public or interested organizations may submit written statements to the ASB about its mission and functions. Written statements may be submitted at any time or in response to the stated agenda of a planned meeting of the ASB. All written statements must be submitted to the Designated Federal Officer (DFO) at the address listed above, and this individual will ensure that the written statements are provided to the membership for their consideration. Written statements not received at least 10 calendar days prior to the meeting may not be considered by the ASB prior to its scheduled meeting. After reviewing written comments, the DFO may choose to invite the submitter of the comments to orally present their issue during a future open meeting.

James W. Satterwhite Jr.,
Alternate Army Federal Register Liaison Officer.

[FR Doc. 2020-28032 Filed 12-18-20; 8:45 am]

BILLING CODE 5061-AP-P